DEPARTMENT OF ENERGY

Federal Energy Regulatory Commission

[Docket No. OA08-62-000]

California Independent System Operator Corporation; Notice of FERC Staff Attendance

December 2, 2008.

The Federal Energy Regulatory Commission (Commission) hereby gives notice that on December 3, 2008, members of its staff will participate in a teleconference to be conducted by the California Independent System Operator (CAISO) regarding the CAISO's 2009 transmission plan. Further information and documents for the teleconference can be obtained at: http://www.caiso.com.

Sponsored by the CAISO, this teleconference is open to all market participants, and Commission staff's participation is part of the Commission's ongoing outreach efforts. This meeting may discuss matters at issue in the above captioned docket.

For further information, contact Saeed Farrokhpay at saeed.farrokhpay@ferc.gov; (916) 294-0233 or Maury Kruth at maury.kruth@ferc.gov, (916) 294-0275.

Kimberly D. Bose,
Secretary.

[FR Doc. E8-28928 Filed 12-5-08; 8:45 am]

BILLING CODE 6717-01-P